DEPARTMENT OF DEFENSE

Office of the Secretary

[Docket ID: DoD-2024-OS-0098]

Submission for OMB Review; Comment Request

AGENCY: Office of the Assistant to the Secretary of Defense for Privacy, Civil Liberties, and Transparency (ATSD(PCLT)), Department of Defense (DoD).

ACTION: 30-Day information collection notice.

SUMMARY: The DoD has submitted to the Office of Management and Budget (OMB) for clearance the following proposal for collection of information under the provisions of the Paperwork Reduction Act.

DATES: Consideration will be given to all comments received by January 29, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Request for Individual Access and Consent for Disclosure to Records Protected Under the Privacy Act; DD Forms 3213 and 3214; OMB Control Number 0704-CASE.

Type of Request: New.

Number of Respondents: 30,000.

Responses per Respondent: 1.

Annual Responses: 30,000.

Average Burden per Response: 45 minutes.

Annual Burden Hours: 22,500.

Needs and Uses: This information collection requirement is necessary to allow an individual to request access to their records or to provide prior written consent authorizing disclosure of such records. The Creating Advanced Streamlined Electronic Services for Constituents Act of 2019 (CASES Act) was enacted to modernize and simplify the process by which individuals can request access to and consent to the disclosure of their personal records held by Federal agencies. This Act addresses the inefficiencies and inconsistencies that previously existed in obtaining written consent for information disclosure. Under the Privacy Act of 1974, individuals have the right to access their records and control the disclosure of their personal information. However, the traditional process of obtaining written consent was often cumbersome, requiring physical signatures and manual transmission of forms. This not only delayed the resolution of constituent inquiries but also created variability in how different Components within DoD handled these requests. The CASES Act mandates the use of electronic access and consent forms, which can be submitted digitally. By allowing digital submissions, the Act aims to streamline the process, reduce delays, and enhance the efficiency of government services.

Affected Public: Current and former DoD employees and their authorized dependents.

Frequency: On occasion.

Respondent's Obligation: Voluntary.

DOD Clearance Officer: Mr. Reginald Lucas.

Dated: December 18, 2024.
Stephanie J. Bost,
Alternate OSD Federal Register Liaison Officer, Department of Defense.

[FR Doc. 2024-30887 Filed 12-27-24; 8:45 am]

BILLING CODE 6001-FR-P